DEPARTMENT OF ENERGY

Federal Energy Regulatory Commission

[Docket No. CP12-46-000]

Kinder Morgan Interstate Gas Transmission LLC

Notice of Request Under Blanket Authorization

Take notice that on January 6, 2012, Kinder Morgan Interstate Gas Transmission LLC (Kinder Morgan), Post Office Box 281304, Lakewood, Colorado 800228-8304, filed in the above Docket, a prior notice request pursuant to sections 157.205, 157.208 and 157.213 of the Commission's regulations under the Natural Gas Act (NGA), for authorization to increase the current certificated maximum injection and withdrawal rates at the Huntsman Storage Facility located in Cheyenne County, Nebraska under Kinder Morgan's blanket certificate issued March 16, 1983 and Docket Nos. CP83-140-100 and CP83-140-001, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Kinder Morgan states that by a Commission order issued September 30, 2009 in Docket No. CP09-109-000, it was granted authorization to construct and operate additional facilities, the Huntsman 2009 Expansion Project, to increase the capability of the Huntsman Storage Facility. The September 30, 2009 order also authorized Kinder Morgan to increase the injection and withdrawal rates to the currently authorized maximum injection rate of 107 MMcf/d and withdrawal rate of 179.4 MMcf/d. Specifically, Kinder Morgan is requesting authorization to increase the maximum certificated injection rate from 107 MMcf/d to 130 MMcf/d, and to increase the maximum certificated withdrawal rate from 179.4 MMCf/d to 210 MMcf/d.

Any questions concerning this application may be directed to Robert F. Harrington, Vice President, Regulatory, Kinder Morgan Interstate Gas Transmission LLC, P.O. Box 281304, Lake wood, Colorado 80228-8304 at (303) 763-3258.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (www.ferc.gov) under the “e-Filing” link.

Dated: January 19, 2012.
Kimberly D. Bose,
Secretary.

[FR Doc. 2012-1476 Filed 1-24-12; 8:45 am]

BILLING CODE 6717-01-P